AGENCY FOR INTERNATIONAL DEVELOPMENT

Notice of Closed Malaria Vaccine Development Program Scientific Advisory Committee Meeting

AGENCY: Agency for International Development (USAID).

ACTION: Notice of closed Federal advisory committee meeting.

SUMMARY: USAID is publishing this notice to announce a closed meeting of the USAID Malaria Vaccine Development Program (MVDP) Scientific Advisory Committee (SAC).

DATES: The meeting will be held Tuesday, October 22, 2024, from 8:00 a.m. to 5:30 p.m. Eastern Daylight Time (EDT) and Wednesday, October 23, 2024, from 8:00 a.m. to 3:00 p.m. EDT.

ADDRESSES: The closed meeting will be held at 455 Massachusetts Avenue NW, Suite 1000, Washington, DC 20001.

FOR FURTHER INFORMATION CONTACT: Email: MVDPSACSecretariat@usaid.gov, or Susan Youll, Designated Federal Officer, 202-712-4300 (Voice). Mailing address is: USAID, 1300 Pennsylvania Ave NW, Washington, DC.

SUPPLEMENTARY INFORMATION:

Purpose of the Meeting: The MVDP SAC will consult with, provide information to, and advise USAID on matters and issues relating to malaria vaccine development, scientific technologies, and any other related matters. The SAC will provide broad scientific review of USAID MVDP activities and investments to ensure MVDP focus and coherence, and to ensure the application of the highest standards of technical and scientific excellence.

Background: The SAC consists of no more than 13 members with demonstrated technical expertise and experience in areas related to malaria vaccine development, including, but not limited to: vaccine development, immunology, malariology, structural biology, preclinical animal models, regulatory affairs, and clinical research. These individuals may include, but not be limited to, employees of international organizations involved in vaccine development, academic institutions, pharmaceutical or biotechnology companies, and other U.S. government agencies. The members will be selected to represent diverse points of view and appointments will be made free from all forms of discrimination. The members are appointed by the US Global Malaria Coordinator.

As stated in its charter, the SAC's role is to:

(a) review written updates provided by the MVDP and their partners;

(b) receive presentations with data and progress from the last meeting and any strategy changes from MVDP staff and partners,

(c) discuss data and ask questions of MVDP staff and partners regarding presentations;

(d) submit a meeting report that may:

• provide strategic advice and scientific guidance;

• include recommendations on overall program strategy; and,

• identify new research and development opportunities that support MVDP objectives.

MVDP SAC meetings are held approximately once a year. More information USAID's Malaria Vaccine Development Program is available at: https://www.usaid.gov/global-health/health-areas/malaria/research-innovation/malaria-vaccine-development-program-mvdp.

Closed Meeting Exemption and Determination

This meeting is being held under the provisions of chapter 10 of title 5, United States Code (U.S.C.) (commonly known as the “Federal Advisory Committee Act” or “FACA”) and 5 U.S.C. 552b (commonly known as the “Government in the Sunshine Act”).

The exemption is authorized by section 10(d) of the FACA, which permits the closure of advisory committee meetings, or portions thereof, if the head of the agency to which the advisory committee reports determines such meetings may be closed to the public in accordance with subsection (c) of the Government in the Sunshine Act (5 U.S.C. 552b(c)). In this case, the applicable provisions of 5 U.S.C. 552b(c) are subsection 552b(c)(4), which permits closure to protect information that would disclose confidential trade secrets or commercial property such as patentable material.

The Administrator, on April 9, 2024, delegated authority to close MVDP SAC meetings to the public, to the U.S. Global Malaria Coordinator. The Global Malaria Coordinator, with the concurrence of the General Counsel, formally determined on August, 27, 2024, pursuant to section 10 of the FACA, (5 U.S.C. 1009(d)), that the MVDP SAC meeting shall be exempt from the provisions relating to public meetings found in 5 U.S.C. 1009(a)(1) and 1009(a)(3).

Susan Youll,
USAID Designated Federal Officer for the MVDP SAC, Global Health Bureau, U.S. Agency for International Development.

[FR Doc. 2024-19718 Filed 9-3-24; 8:45 am]

BILLING CODE 6116-01-P